DEPARTMENT OF THE INTERIOR

National Park Service

[NPS-WASO-CR-19413; PPBSADA0, PPMPSAS1Y.Y00000 (155)]

Information Collection Request Sent to the Office of Management and Budget (OMB) for Approval; Nomination of Properties for Listing in the National Register of Historic Places

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on September 30, 2015. We may not conduct or sponsor and a person is not required to respond to a collection of information unless it displays a currently valid OMB control number. However, under OMB regulations, we may continue to conduct or sponsor this information collection while it is pending at OMB.

DATES: You must submit comments on or before October 30, 2015.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 12201 Sunrise Valley Drive, Room 2C114, Mail Stop 242, Reston, VA 20192; or madonna_baucum@nps.gov (email). Please include “1024-0018” in the subject line of your comments.

FOR FURTHER INFORMATION CONTACT: To request additional information about this ICR, contact Lisa Deline at Lisa_Deline@nps.gov (email) or at 202-354-2239 (telephone). You may review the ICR online at http://www.reginfo.gov. Follow the instructions to review Department of the Interior collections under review by OMB.

SUPPLEMENTARY INFORMATION:

I. Abstract

The National Register of Historic Places (National Register) is the official Federal list of districts, sites, buildings, structures, and objects significant in American history, architecture, archeology, engineering, and culture. National Register properties have significance to the history of communities, States, or the Nation. The National Historic Preservation Act of 1966 requires the Secretary of the Interior to maintain and expand the National Register, and to establish criteria and guidelines for including properties on the National Register.

National Register properties must be considered in the planning for Federal or federally assisted projects, and listing on the National Register is required for eligibility for Federal rehabilitation tax incentives. Listing on the National Register provides formal recognition of a property's historical, architectural, or archeological significance based on national standards used by every State. The listing places no obligations on private property owners, and there are no restrictions on the use, treatment, transfer, or disposition of private property.

The National Park Service administers the National Register. Nominations listing historic properties come from State Historic Preservation Officers, from Federal Preservation Officers for properties owned or controlled by the United States Government, and from Tribal Historic Preservation Officers, for properties on tribal lands. Regulations at 36 CFR parts 60 and 63 establish the criteria and guidelines for listing and for determining the eligibility of properties. We use three forms for nominating properties and providing documentation for the proposed listings:

• NPS Form 10-900 (National Register of Historic Places Registration Form).

• NPS Form 10-900-a (National Register of Historic Places Continuation Sheet).

• NPS Form 10-900-b (National Register of Historic Places Multiple Property Documentation Form).

These forms and supporting documentation go to the Historic Preservation Office where the property is located. The State Historic Preservation Officer, Federal Preservation Officer, or Tribal Historic Preservation Officer can take one of several options:

• Reject the property.

• Ask for more information.

• In the case of the State Historic Preservation Officer, list the property just with the State.

• Send the forms to NPS for listing on the National Register.

Once we receive the forms, we conduct a similar review process to determine eligibility for listing on the National Register.

Comments Received and Our Responses

On January 28, 2015, we published in the Federal Register (80 FR 4589) a notice of our intent to request that OMB approve the collection of information associated with nominations of properties for inclusion in the National Register of Historic properties. We did not receive any comments in response to that notice.

We published an amended notice on June 26, 2015 (80 FR 36845). The amended notice extended the comment date and provided the public with more detailed information about the five types of package submissions that we receive along with additional information on the respective burden estimates. We solicited comments for 60 days ending on August 25, 2015. We received comments from nine States:

Comment: Four States provided clarifications on the State burden estimates published in the amended notice, but did not provide any additional comments regarding the collection of information.

Response: We have considered and included, as appropriate, the information provided in our burden estimates.

Comment: One State responded that the collection of information was essential to meet the mandates of the National Historic Preservation Act. The State acknowledged the burden estimates for their State were accurate and added that there is a wide variation between response times from an individual compared to an experienced consultant. It was suggested that the NPS redesign the NR form so that it takes up fewer pages and to fix the “quirks” of the existing form. Finally, the State felt the burden could not be reduced unless additional funding is provided to the State Historic Preservation Offices to hire additional staff.

Response: The forms are provided as Word templates, which allow for rolling text from one page to the next. Some respondents choose not to fill out NPS Form 10-900 completely and simply place most documentation on NPS Form 10-900-a. Blank spaces may be deleted so there are fewer pages. The current forms allow for this flexibility. The current and projected out-year funding levels do not support the possibility of hiring additional staff or increasing the operating budget for the program. However, hiring additional staff would not reduce the burden, only spread it out among a larger staff.

Comment: One State commented that a category for State Historic Preservation Offices that prepare NR nominations should have been included in the burden estimates.

Response: We agree and have included the burden in this ICR.

Comment: One State commented that the information collected is adequate and useful and would not recommend any changes to what is requested. The State believes that providing workshops and further guidance would help respondents to more fully understand the requirements. The State also commented that it would be difficult to reduce the burden because most States are concerned with local administration of the Federal tax program and incentives are tied to being listed on the National Register.

Response: We agree. The NR Program provides easily accessibly guidance online via the National Register Bulletins and webinars that are posted on the NR Web site, as well as offering yearly workshops to assist with the documentation process.

Comment: One State commented that the collection of information was neither necessary nor useful and had no practical utility in the nomination of properties.

Response: We disagree. The information we collect is necessary to properly identify, evaluate, and protect properties nominated to the National Register of Historic Places.

II. Data

OMB Control Number: 1024-0018.

Title: Nomination of Properties for Listing in the National Register of Historic Places, 36 CFR 60 and 63.

Service Form Number(s): 10-900,10-900-a, and 10-900-b.

Type of Request: Revision of a currently approved collection.

Description of Respondents: Individuals; businesses; organizations; and State, local, and tribal local governments.

Respondent's Obligation: Required to obtain or retain a benefit.

Frequency of Collection: On occasion.

Activity | Number of respondents | Number of annual responses | Completion time per response | Total annual burden hours
Preparation and Submission of Nomination Forms | 100 | 100 | 250 | 25,000
Historic Preservation Office Review of Nomination Forms | 100 | 1,282 | 6 | 7,692
Individual Nominations ¹ |  | 635 |  | 0
District Nominations ¹ |  | 435 |  | 0
Nominations Submitted under Existing MPS Covers ¹ |  | 75 |  | 0
New Proposed MPS Cover Documents ¹ |  | 36 |  | 0
New Nominations |  | 1 |  | 0
Totals | 200 | 2,564 |  | 32,692
¹ Prepared by consultants.

Estimated Annual Nonhour Burden Cost: $19,398,000 for consultant costs for preparing nominations.

III. Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: September 23, 2015.
Madonna L. Baucum,
Information Collection Clearance Officer, National Park Service.

[FR Doc. 2015-24653 Filed 9-29-15; 8:45 am]

BILLING CODE 4310-EH-P